DEPARTMENT OF DEFENSE

Department of the Army

Notice of Availability for the Draft Environmental Impact Statement (DEIS) for Stationing and Training of Increased Aviation Assets Within U.S. Army Alaska

AGENCY: Department of the Army, DOD.

ACTION: Notice of availability.

SUMMARY: The Department of the Army announces the availability of a DEIS for the implementation of the decisions to increase numbers and types of aviation assets and training at Fort Wainwright, Fort Richardson or other military installations in Alaska. The proposed aviation unit, an Aviation Task Force or Combat Aviation Brigade, would potentially consist of up to 62 medium and heavy lift helicopters, 30 combat scout helicopters, 24 attack helicopters, and between 1,200 to 2,850 personnel.

DATES: The public comment period ends 45 days following publication of a Notice of Availability in the Federal Register by the U.S. Environmental Protection Agency.

ADDRESSES: Written comments should be forwarded to Ms. Carrie McEnteer, Directorate of Public Works, Attention: IMPA-FWA-PWE, 1060 Gaffney Road #4500, Fort Wainwright, AK 99703-4500, by fax at (907) 353-9867, or by e-mail at carrie.mcenteerus.army.mil.

FOR FURTHER INFORMATION CONTACT: Ms. Linda L. Douglass, Public Affairs Office, 1060 Gaffney Road #5900, Fort Wainwright, AK 99703-5900; telephone: (907) 353-6701 or (907) 384-2546, e-mail: linda.douglassusarmy.mil.

SUPPLEMENTARY INFORMATION: The Proposed Action and analysis in the EIS includes the reorganization of existing aviation assets (approximately 640 personnel and 30 medium and heavy lift helicopters) in U.S. Army Alaska (USARAK) to become a frontline aviation unit with an increased capacity that could range in size from an Aviation Task Force (approximately 1,200 personnel, 40 medium and heavy lift helicopters and 30 combat scout helicopters) to a Combat Aviation Brigade (approximately 2,850 personnel, 60 medium and heavy lift helicopters, 30 combat scout helicopters, and 24 attack aviation helicopters).

While USARAK has historically supported unit training activities within Alaska with rotary-winged aircraft (helicopters), the types and numbers of current assets are not sufficient to provide the full range of integrated tactical training required by the modern Brigade Combat Team. The proposed increase and reorganization of USARAK's aviation assets would resolve this shortcoming. The new aviation unit would provide key aviation assets for operational deployment abroad and would serve to enhance the training capability of USARAK's two Brigade Combat Teams by providing a local opportunity to conduct integrated training with multiple types of Army aviation assets.

In addition to consideration of a No Action Alternative (use of existing aviation assets and infrastructure to support USARAK Brigade Combat Team training with no increase to current integrated land-air training capability), two additional alternatives are proposed as possible scenarios for the reorganization of existing USARAK aviation assets. The alternatives vary by aviation unit size, aviation asset composition and stationing location. Alternatives include: (1) Expansion of Existing Aviation Units into an Aviation Task Force—convert existing USARAK aviation assets into an Aviation Task Force (station approximately 1,200 personnel and 30 additional helicopters, build sufficient new infrastructure to support the new aviation inventory at Fort Wainwright and conduct increased aviation training on existing Alaska military training lands and ranges); and (2) Expansion of Existing Aviation Assets into a Combat Aviation Brigade with stationing of Soldiers and helicopters at Fort Wainwright, Fort Richardson and Eielson Air Force Base—convert existing USARAK aviation assets into a Combat Aviation Brigade (station approximately 2,850 personnel and an additional 84 helicopters at the three military installations, build sufficient new infrastructure only at Fort Wainwright to support the new aviation inventory and conduct increased aviation training on existing Alaska military training lands and ranges). After reviewing the alternatives presented in the DEIS, the Army has selected the Aviation Task Force alternative as its preferred alternative.

The DEIS is available for public review at local libraries and at the following Web site: http://www.usarak.army.mil/conservation/NEPA_home.htm. Comments from the public will be considered before any final decision is made.

Dated: April 20, 2009.
Addison D. Davis IV,
Deputy Assistant Secretary of the Army, Environment, Safety, and Occupational Health.

[FR Doc. E9-9916 Filed 4-30-09; 8:45 am]

BILLING CODE 3710-08-M